DEPARTMENT OF LABOR

Office of the Secretary

Submission for OMB Review: Comment Request

October 29, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on (202) 693-4129 (this is not a toll-free number) or e-mail: king.darrin@dol.gov.

Comments should be sent to Office of Information and Regulatory Affairs, Attn: OMB Desk Officer for the Occupational Safety and Health Administration (OSHA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: 29 CFR Part 1904 Recordkeeping and Reporting Occupational Injuries and Illnesses.

OMB Number: 1218-0176.

Forms: OSHA Form 300; OSHA Form 300A; and OSHA Form 301.

Frequency: On occasion and Annually.

Type of Response: Reporting; Recordkeeping; and Third party disclosure.

Affected Public: Business or other for-profit; Not-for-profit institutions; Farms; and State, Local, or Tribal Government.

Number of Respondents: 1,484,000.

Information collection requirement | Annual responses | Estimated average response time (hours) | Annual burden hours
29 CFR 1904.4—Complete OSHA Form 301* | 1,546,160 | 0.367 | 567,441
29 CFR 1904.4—Line entry on OSHA Form 300 (other than needlesticks) | 3,827,600 | 0.233 | 891,831
29 CFR 1904.8—Line entry on OSHA 300 for needlesticks | 590,000 | 0.083 | 48,970
29 CFR 1904.29(b)(6)—Entry on privacy concern case confidential list | 641,000 | 0.050 | 32,050
29 CFR 1904.32—Complete, certify, and post OSHA Form 300A | 1,484,000 | 0.967 | 1,435,028
29 CFR 1904.35—Employee Access to OSHA Form 300 | 137,000 | 0.083 | 11,371
29 CFR 1904.35—Employee Access to OSHA Form 301 | 273,000 | 0.083 | 22,659
29 CFR 1904.39—Report fatalities/catastrophes | 2,000 | 0.250 | 500
Learning Basics of Recordkeeping System—turnover of personnel | 296,800 | 1.000 | 296,800
29 CFR 1904.38—Request for variance | 0 | 0.000 | 0
Total | 8,797,560 |  | 3,306,650
* Estimate based on 35% of cases recorded on OSHA Form 300.

Total Annualized capital/startup costs: $0.

Total Annual Costs (operating/maintaining systems or purchasing services): $0.

Description: The OSHA Act and 29 CFR part 1904 require certain employers to maintain records of job related injuries and illnesses. The injury and illness records are intended to have multiple purposes. One purpose is to provide data needed by OSHA to carry out enforcement and intervention activities to provide workers a safe and healthy work environment. The data are also needed by the Bureau of Labor Statistics to report on the number and rate of occupational injuries and illnesses in the country.

The data also provides information to employers and employees of the kinds of injuries and illnesses occurring in the workplace and their related hazards. Increased employer awareness should result in the identification and voluntary correction of hazardous workplace conditions. Likewise, employees who are provided information on injuries and illnesses will be more likely to follow safe work practices and report workplace hazards. This would generally raise the overall level of safety and health in the workplace.

Darrin A. King,
Acting Departmental Clearance Officer.

[FR Doc. 04-24658 Filed 11-3-04; 8:45 am]

BILLING CODE 4510-26-P